DEPARTMENT OF COMMERCE

International Trade Administration

Renewable Energy Trade Mission to Mexico; May 16-19, 2016

AGENCY: International Trade Administration, Department of Commerce.

ACTION: Notice.

SUMMARY: The United States Department of Commerce's International Trade Administration (ITA) is organizing an Executive-led Renewable Energy Trade Mission to Mexico from May 16 to 19, 2016. The Renewable Energy Trade Mission offers a timely and cost-effective means for U.S. firms to engage with key stakeholders and to enter the promising Mexican market for renewable energy equipment, technology, and services.

A senior ITA official will lead a delegation of 15 to 20 companies for a series of meetings with government officials, power sector decision makers, potential buyers and other commercial partners in Mexico City. Delegates will receive discounted access to Mexico's premier trade show and congress for the clean energy industries, MIREC WEEK, including exclusive networking opportunities facilitated by the International Trade Administration. Participating companies will also have the option for a second-city mission extension for solar and wind power sub-sector briefings in Monterrey; pre-screened business-to-business meetings with local agents, distributors, or potential buyers facilitated by the Commercial Service; and local networking opportunities.

The mission will target near- and medium-term opportunities for U.S. equipment suppliers, technology providers and integrators, and a wide range of service providers operating in the solar, wind, renewable fuels, geothermal, and hydro power sub-sectors. In addition to exclusive meetings with Mexican energy sector officials, delegates will benefit from exposure to the hundreds of businesses and high-level decision makers participating in MIREC WEEK. The U.S. Commercial Service in Mexico will organize a complete package of country briefings, business and government meetings, sub-sector seminars, and networking opportunities led by U.S. government officials during MIREC WEEK. Delegates participating in the Monterrey extension will also receive business-to-business services designed to capitalize on unique opportunities in the local market and connect mission delegates with potential buyers.

Schedule
Monday, May 16, 2016 | Participants Arrive in Mexico City by 4 p.m.
| Country Briefing: by U.S. Embassy staff on Mexico's renewable energy sector and business opportunities.
| Evening Reception: with USG officials, renewable energy stakeholders, and potential partners from Mexico's industry.
Tuesday, May 17, 2016 | Meetings and Roundtables: with government agencies and renewable energy sector decision makers, including translation services.
| Evening Reception: with key stakeholders at MIREC WEEK.
Wednesday, May 18, 2016 | MIREC WEEK: One-day participation in Mexico's premier trade show and congress for the clean energy industries.
| U.S. Government-led Networking Opportunities: delegation tour of the show and facilitated networking.
| Optional Second-City: Evening travel to Monterrey.
Thursday, May 19, 2016 | Monterrey Sub-Sector Roundtables: with local leaders and business community in wind and solar industries.
| Monterrey Business Meetings: Commercial Service facilitated business-to-business meetings in Monterrey.

Web site: Please visit our official mission Web site for more information: http://www.export.gov/trademissions/.

Participation Requirements

All parties interested in participating in the trade mission must complete and submit an application package for consideration by the Department of Commerce. All applicants will be evaluated, on a rolling basis, on their ability to meet certain conditions and best satisfy the selection criteria as outlined below (see Conditions for Participation). A minimum of 15 and maximum of 20 companies will be selected to participate in the Mexico City mission from the applicant pool. For specialized business to business meetings in Monterrey, a maximum of 10 companies will be selected to participate.

Fees and Expenses

After a company or organization has been selected to participate on the mission, a payment to the Department of Commerce in the form of a participation fee is required. The participation fee for the basic Trade Mission, including a discounted one-day all-access pass to MIREC WEEK, will be $1,900, for a small or medium-sized firm (SME), and $2,250 for large firms. The additional fee for participants in the extended Mission for pre-screened business to business meetings in Monterrey will be $1,400 for a SME and $1,700.00 for a large firm. The fee for each additional company representative participating in the Mission will be $1,600.00 for Mexico City and $500 for Monterrey.

Application

All interested firms and associations may register via the following link: http://emenuapps.ita.doc.gov/ePublic/TM/6R0R.

Exclusions

The mission fee does not include any personal travel expenses such as lodging, most meals, local ground transportation (except for transportation to and from meetings), and air transportation. Participants will, however, be able to take advantage of U.S. Government rates for hotel rooms.

Business or entry visas may be required to participate on the mission. Applying for and obtaining such visas will be the responsibility of the mission participant. Government fees and processing expenses to obtain such visas are not included in the participation fee. However, the Department of Commerce will provide instructions to each participant on the procedures required to obtain necessary business visas.

Timeline for Recruitment and Applications

Mission recruitment will be conducted in an open and public manner, including publication in the Federal Register, posting on the Commerce Department trade mission calendar (http://export.gov/trademissions), the Renewable Energy and Energy Efficiency exporter portal (http://www.export.gov/reee/) and newsletter, and other Web sites, press releases to general and trade media, direct mail, notices by industry trade associations and other multiplier groups, and publicity at industry meetings, symposia, conferences, and trade shows.

Recruitment for the mission will begin immediately and the U.S. Department of Commerce will review applications and make selection decisions on a rolling basis until the maximum of 20 participants for Mexico City and 10 participants for Monterrey are selected. Applications received after March 4, 2016, will be considered only if space and scheduling constraints permit and participation fees must be paid by March 14, 2016.

Conditions for Participation

Targeted mission participants are U.S. companies or trade associations providing renewable energy equipment, technology and services with export interests in Mexico's market.

Certification of products and/or services being manufactured or produced in the United States is required, or if manufactured/produced outside of the United States, the product/service must be marketed under the name of a U.S. firm and have U.S. content representing at least 51 percent of the value of the finished good or service.

The following criteria will be evaluated in selecting participants:

• Suitability of a firm's or service provider's (or in the case of a trade association/organization, represented firm or service provider's) products or services to Mexico's market.

• Firm's or service provider's (or in the case of a trade association/organization, represented firm or service provider's) potential for business in the markets, including likelihood of exports resulting from the mission.

• Consistency of the firm's or service provider's (or in the case of a trade association/organization, represented firm or service provider's) goals and objectives with the stated scope of the mission.

Diversity of company size and location may also be considered during the review process.

Referrals from political organizations and any documents containing references to partisan political activities (including political contributions) will be removed from an applicant's submission and not considered during the selection process.

FOR FURTHER INFORMATION CONTACT: Mr. Adam O'Malley, Office Director: Energy and Environmental Studies, U.S. Department of Commerce: International Trade Administration, 1401 Constitution Avenue NW., Suite 4053, Washington, DC 20230, Tel: 202-482-4850, Adam.OMalley@trade.gov.

Ms. Clarissa David, International Trade Specialist, Office of Trade Promotion Programs, U.S. Department of Commerce, Washington, DC 20230, Tel: 202-482-0379, Fax: 202-482-9000, Clarissa.David@trade.gov.

Frank Spector,
Acting Director, Trade Missions Program.

[FR Doc. 2015-31142 Filed 12-9-15; 8:45 am]

BILLING CODE 3510-DR-P